DEPARTMENT OF HEALTH AND HUMAN SERVICES

Administration for Children and Families

Proposed Information Collection Activity; “State SNAP Agency NDNH Matching Program Performance Report” (Office of Management Budget #0970-0464)

AGENCY: Office of Child Support Services, Administration for Children and Families, U.S. Department of Health and Human Services.

ACTION: Request for public comments.

SUMMARY: The Office of Child Support Services (OCSS) is requesting the federal Office of Management and Budget (OMB)approve the “State SNAP Agency NDNH Matching Program Performance Report,” with minor revisions, for an additional three years. State agencies administering their Supplemental Nutrition Assistance Program (SNAP) provide the annual performance report to OCSS in accordance with the computer matching agreement between state SNAP agencies and OCSS. The current OMB approval expires on February 28, 2025.

DATES: Comments due within 60 days of publication. In compliance with the requirements of the Paperwork Reduction Act of 1995, the Administration for Children and Families is soliciting public comment on the specific aspects of the information collection described above.

ADDRESSES: To submit comments and obtain copies of the proposed collection of information, email infocollection@acf.hhs.gov. Identify all requests by the title of the information collection.

SUPPLEMENTARY INFORMATION:

Description: State agencies administering SNAP are mandated to participate in a computer matching program with OCSS. The matching program compares SNAP applicant and recipient information with employment and wage information maintained in the National Directory of New Hires (NDNH). The outcomes of the compared information help state SNAP agencies verify an individual's identity and determine a benefit eligibility. To receive NDNH information, state agencies enter into a computer matching agreement and adhere to its terms and conditions, including providing OCSS with annual performance outcomes attributable to the use of NDNH information. To fulfill OMB requirements, OCSS periodically reports performance measurements demonstrating how the use of information in the NDNH supports the OCSS strategic mission, goals, and objectives. These periodic reports include information derived from state SNAP agency annual NDNH performance reports. OCSS provides states with required performance report templates and instructions, which underwent minor language edits.

Respondents: State SNAP Agencies.

Annual Burden Estimates
Instrument | Total number of respondents | Annual number of responses per respondent | Average burden hours per response | Total annual burden hours
SNAP Agency Performance Reporting Tool and Instructions | 53 | 1 | 0.83 | 43.99

Comments: The Department specifically requests comments on (a) whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. OCSS will consider comments and suggestions submitted within 60 days of this publication.

Authority: 42 U.S.C. 653(j)(10); 5 U.S.C. 552a; and Public Law 111-352.

Mary C. Jones, ACF/OPRE Certifying Officer.

[FR Doc. 2024-17148 Filed 8-2-24; 8:45 am]

BILLING CODE 4184-41-P